DEPARTMENT OF HOMELAND SECURITY

U.S. Citizenship and Immigration Services

[CIS No. 2775-24; DHS Docket No. USCIS-2024-0004]

Retirement of Forms by Mail Service

AGENCY: U.S. Citizenship and Immigration Services, Department of Homeland Security.

ACTION: Notice.

SUMMARY: Through this notice, the Department of Homeland Security (DHS), United States Citizenship and Immigration Services (USCIS) announces the retirement of the Forms by Mail service on July 18, 2024. The Forms by Mail service provides paper copies of available USCIS forms by mail to individuals who submit a request online using the uscis.gov website (accessible at https://www.uscis.gov/forms/forms-information/forms-by-mail) or by mail. Forms by Mail is no longer needed because all USCIS forms and instructions are available on the uscis.gov website to download, print, and complete, and many forms may be filed electronically at https://www.uscis.gov/file-online/forms-available-to-file-online. Ending Forms by Mail is intended to allow USCIS to use the resources that it requires on more essential tasks.

DATES: USCIS will not accept forms requests received through the uscis.gov website or by mail after July 18, 2024.

ADDRESSES: Mary Zimmerman, Supervisor, Intake and Processing Unit, Central Operations Branch, Office of Intake and Document Production, U.S. Citizenship and Immigration Services, Department of Homeland Security, 124 Leroy Road, Williston, VT 05495.

FOR FURTHER INFORMATION CONTACT: Mary Zimmerman, Supervisor, Intake and Processing Unit, Central Operations Branch, Office of Intake and Document Production, U.S. Citizenship and Immigration Services, Department of Homeland Security, 124 Leroy Road, Williston, VT 05495 or by phone at 802-309-0284.

SUPPLEMENTARY INFORMATION: On April 5, 1978, the Immigration and Naturalization Service (Legacy INS) published a final rule amending the regulations at 8 CFR part 299 to provide guidance on the issuance of agency forms to the public. See 43 FR 14304. The goal of this final rule was to facilitate distribution of agency forms to individuals, groups, and practitioners, which benefited the public during a time when these forms were not immediately accessible. Id. at 14303.

As a result of the 1978 final rule, Legacy INS created the Forms by Mail service. Under 8 CFR 299.2, USCIS may, but is not required to, provide physical copies of forms to the person for whom the form is intended or a representative of the intended user. See 8 CFR 299.2 (stating “Any officer or employee of the Service may issue official application or petition and related forms to the person for whose use the form is intended or to a person identified as a representative of the intended user in the quantity required for filing the application or petition and related forms.”) (emphasis added). Through the USCIS Forms by Mail service, individuals may request physical copies of blank forms to file applications or petitions with USCIS.¹ While most of these form requests are initiated by individuals who completed an online form request on the uscis.gov website, USCIS also responds to form requests received through physical mail. USCIS has administered the Forms by Mail service for over 30 years.

¹ See Department of Homeland Security, United States Citizenship and Immigration Services, Forms By Mail available at https://www.uscis.gov/forms/forms-information/forms-by-mail (last viewed Apr. 15, 2024).

Since fiscal year (FY) 2019, form requests submitted through the USCIS Forms by Mail service have decreased by over 500%.² USCIS attributes this decreased demand to the availability of all agency forms on the USCIS website, in addition to the increasing electronic filing options for many applications and petitions. Individuals who access the USCIS forms online are assured they have the most current form versions, which minimizes the number of immigration benefit requests that USCIS otherwise would have to reject based on an outdated or incorrect form version.

² Records of the USCIS, Office of Intake and Document Production, Document Management Division.

In addition, USCIS spends over $35,000 annually to manage the Forms by Mail program, including employees' salaries, postage, and other materials.³ Forms by Mail also requires specialized mailing equipment and software to manage the distribution of the forms. USCIS has determined that these resources would be better used in delivering services that are in demand.

³ Records of the USCIS, Office of Intake and Document Production, Document Management Division.

Before deciding to retire the Forms by Mail Service, USCIS assessed whether there were reliance interests, whether they were significant, and weighed such interests against the benefits of and rationale behind making this change along with competing policy concerns. DHS reviewed data such as the number of forms requests received through the Forms by Mail service in recent years. DHS has not received any indication that stakeholders do not have access to the internet, a computer, a printer, or online filing capabilities. The total number of requests made through Forms by Mail in FY23 was 10,783 and in FY23 USCIS had over 7.7 million paper filings. Therefore, DHS determined that there are not significant reliance interests in the Forms by Mail service, and to the extent that such reliance interests exist, the competing policy concerns, including the human resources and operational and financial costs savings from retiring the Forms by Mail service, outweigh any potential reliance interest. DHS concluded there are no alternatives to retiring the program that would meet the competing policy concerns. Nevertheless, USCIS is providing 45 days advance notice in this notice before the Forms by Mail service is retired to mitigate any reliance interests and facilitate adjustment to other avenues to obtain forms. Therefore, after considering the decreasing demand for the USCIS Forms by Mail service, the availability of USCIS forms on the uscis.gov website, and the operational and financial costs of the Forms by Mail service, USCIS has decided to retire the Forms by Mail Service. USCIS will also post a notice on the Forms by Mail web page ⁴ and on social media announcing that we will end the service in 45 days. After July 18, 2024, USCIS will no longer physically mail forms to stakeholders and will direct any form request or similar inquiry to the uscis.gov website.

⁴ See Department of Homeland Security, United States Citizenship and Immigration Services, Forms By Mail available at https://www.uscis.gov/forms/forms-information/forms-by-mail (last viewed Apr. 15, 2024).

Ur M. Jaddou,
Director, U.S. Citizenship and Immigration Services, Department of Homeland Security.

[FR Doc. 2024-11986 Filed 5-31-24; 8:45 am]

BILLING CODE 9111-97-P